SOCIAL SECURITY ADMINISTRATION

[Docket No: SSA-2017-0028]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2017-0028].

I. The information collection below is pending at SSA. SSA will submit it to OMB within 60 days from the date of this notice. To be sure we consider your comments, we must receive them no later than July 24, 2017. Individuals can obtain copies of the collection instrument by writing to the above email address.

Statement Regarding Date of Birth and Citizenship—20CFR 404.716—0960-0016. Section 205(a) of the Social Security Act (Act) gives the Commissioner of SSA the authority to make rules and regulations and to establish procedures for collecting evidence from individuals applying for Social Security benefits. When individuals apply for Social Security benefits and cannot provide preferred methods of proving age or citizenship, SSA uses Form SSA-702 to establish these facts. Specifically, SSA uses the SSA-702 to establish age as a factor of entitlement to Social Security benefits, or U.S. citizenship as a payment factor. Respondents are individuals with knowledge about the date of birth or citizenship of applicants filing for one or more Social Security benefits who need to establish age or citizenship.

Type of Request: Revision of an OMB-approved information collection.

Modality of completion | Number of respondents | Frequency of response | Average burden per response (minutes) | Estimated total annual burden (hours)
SSA-702 | 1,200 | 1 | 10 | 200

II. SSA submitted the information collections below to OMB for clearance. Your comments regarding the information collections would be most useful if OMB and SSA receive them 30 days from the date of this publication. To be sure we consider your comments, we must receive them no later than June 22, 2017. Individuals can obtain copies of the OMB clearance package by writing to OR.Reports.Clearance@ssa.gov.

1. Authorization for the Social Security Administration to Obtain Wage and Employment Information from Payroll Data Providers—0960-NEW. Section 824 of the Bipartisan Budget Act (BBA) of 2015, Public Law 114-74, authorizes the Social Security Administration (SSA) to enter into information exchanges with payroll data providers for the purposes of improving program administration and preventing improper payments in the Social Security Disability Insurance (SSDI) and Supplemental Security Income (SSI) programs. SSA will use Form SSA-8240, “Authorization for the Social Security Administration to Obtain Wage and Employment Information from Payroll Data Providers,” to secure the authorization needed from the relevant members of the public to obtain their wage and employment information from payroll data providers. Ultimately, SSA will use this wage and employment information to help determine program eligibility and payment amounts.

The public will be able to complete form SSA-8240 using the following modalities: A paper form; the Internet; and an in-office or telephone interview, during which an SSA employee will document the wage and employment information authorization information on one of SSA's internal systems ((the Modernized Claims System (MCS); the Modernized Supplemental Security Income Claims System (MSSICS); eWork; or iMain)). The individual's authorization will remain effective until one of the following four events occurs:

• SSA makes a final adverse decision on the application for benefits, and the applicant has filed no other claims or appeals under the Title for which SSA obtained the authorization;

• the individual's eligibility for payments ends, and the individual has not filed other claims or appeals under the Title for which SSA obtained the authorization;

• the individual revokes the authorization verbally or in writing; or

• the deeming relationship ends (for SSI purposes only).

SSA will request authorization on an as-needed basis as part of the following processes: (a) SSDI and SSI initial claims; (b) SSI redeterminations; and (c) SSDI Work Continuing Disability Reviews. The respondents are individuals who file for or are currently receiving SSDI or SSI payments, and any person whose income and resources SSA counts when determining an individual's SSI eligibility or payment amount.

Type of Request: Request for a new information collection.

Modality of completion | Number of respondents | Frequency of response (per annum) | Average burden per response (minutes) | Estimated total annual burden (hours)
SSA-8240 (paper) | 136,150 | 1 | 6 | 13,615
Title II & Title XVI Electronic (MCS, MSSICS, and eWork) | 2,769,800 | 1 | 2 | 92,327
Internet | 927,504 | 1 | 2 | 30,917
Revoking Authorization | 191,673 | 1 | 10 | 31,946
Totals | 4,025,127 |  |  | 168,805

2. Farm Arrangement Questionnaire—20 CFR 404.1082(c)—0960-0064. When self-employed workers submit earnings data to SSA, they cannot count rental income from a farm unless they demonstrate “material participation” in the farm's operation. A material participation arrangement means the farm owners must perform a combination of physical duties; management decisions; and capital investment in the farm they rent out. SSA uses Form SSA-7157, the Farm Arrangement Questionnaire, to document material participation. The respondents are workers who are renting farmland to others; are involved in the operation of the farm; and want to claim countable income from work they perform relating to the farm.

Type of Request: Revision of an OMB-approved information collection.

Modality of completion | Number of respondents | Frequency of response | Average burden per response (minutes) | Estimated total annual burden (hours)
SSA-7157 | 2,304 | 1 | 30 | 1,152

3. Railroad Employment Questionnaire—20 CFR 404.1401, 404.1406-404.1408—0960-0078. Railroad workers, their dependents, or survivors can concurrently apply for railroad retirement and Social Security benefits at SSA if the number holder, or claimant on the number holder's Social Security Number, worked in the railroad industry. SSA uses Form SSA-671 to coordinate Social Security claims processing with the Railroad Retirement Board, and to determine benefit entitlement and amount. The respondents are Social Security benefit applicants previously employed by a railroad or dependents of railroad workers.

Type of Request: Revision of an OMB-approved information collection.

Modality of completion | Number of respondents | Frequency of response | Average burden per response (minutes) | Estimated total annual burden (hours)
SSA-671 | 125,000 | 1 | 5 | 10,417

4. Employee Identification Statement—20 CFR 404.702—0960-0473. When two or more individuals report earnings under the same Social Security Number (SSN), SSA collects information on Form SSA-4156 to credit the earnings to the correct individual and SSN. We send the SSA-4156 to the employer to: (1) Identify the employees involved; (2) resolve the discrepancy; and (3) credit the earnings to the correct SSN. The respondents are employers involved in erroneous wage reporting for an employee.

Type of Request: Revision of an OMB-approved information collection.

Modality of completion | Number of respondents | Frequency of response | Average burden per response (minutes) | Estimated total annual burden (hours)
SSA-4156 | 4,750 | 1 | 10 | 792

5. Appeal of Determination for Help with Medicare Prescription Drug Plan Costs—0960-0695. Public Law 108-173, the MMA of 2003 established the Medicare Part D program for voluntary prescription drug coverage for certain low-income individuals. The MMA stipulates the provision of subsidies for individuals who are eligible for the program and who meet eligibility criteria for help with premium, deductible, and co-payment costs. SSA uses Form SSA-1021, Appeal of Determination for Help With Medicare Prescription Drug Plan Costs, to obtain information from individuals who appeal SSA's decisions regarding eligibility or continuing eligibility for a Medicare Part D subsidy. The respondents are Medicare beneficiaries, or proper applicants acting on behalf of a Medicare beneficiary, who do not agree with the outcome of an SSA subsidy eligibility determination, and are filing an appeal.

Type of Request: Revision of an OMB-approved information collection.

Modality of completion | Number of respondents | Frequency of response | Average burden per response (minutes) | Estimated total annual burden (hours)
SSA-1021 (Paper Version) | 3,283 | 1 | 10 | 547
SSA-1021 (Internet Version; Medicare Application Processing System) | 11,037 | 1 | 10 | 1,840
Totals | 14,320 |  |  | 2,387

Dated: May 17, 2017.
Naomi R. Sipple,
Reports Clearance Officer, Social Security Administration.

[FR Doc. 2017-10470 Filed 5-22-17; 8:45 am]

BILLING CODE 4191-02-P